DEPARTMENT OF AGRICULTURE

Food and Nutrition Service

Agency Information Collection Activities: Generic Clearance for the Development of Nutrition Education Messages and Products for the General Public (Generic Clearance To Conduct Formative Research/CNPP)

AGENCY: Food and Nutrition Service (FNS), U.S. Department of Agriculture (USDA).

ACTION: Notice.

SUMMARY: In accordance with the Paperwork Reduction Act of 1995, this notice invites the general public and other public agencies to comment on this proposed information collection. This is an extension, without change, of a currently approved collection. The purpose of performing consumer research is to identify consumers' understanding of proposed nutrition education messages and obtain their reaction to prototypes of nutrition education products, including internet-based tools. The information collected will be used to refine messages and improve the usefulness of products as well as aid consumer understanding of Dietary Guidelines-grounded messages and related materials.

DATES: Written comments must be received on or before October 27, 2025.

ADDRESSES: Comments may be sent to: Jessica Larson, Food and Nutrition Service, U.S. Department of Agriculture, 1320 Braddock Place, Fourth Floor, Alexandria, VA 22314. Comments may also be submitted via email to SM.FN.CNPPSupport@usda.gov. Comments will also be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Jessica Larson at 703-305-2062.

SUPPLEMENTARY INFORMATION:

Comments are invited on: (a) Whether the proposed collection of information is necessary for the proper performance of agency functions including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Title: Generic Clearance for the Development of Nutrition Education Messages and Products for the General Public (Generic Clearance to Conduct Formative Research/CNPP).

Form Number: None.

OMB Number: 0584-0523.

Expiration Date: November 30, 2025.

Type of Request: Extension, without change, of a currently approved collection.

Abstract: This notice announces the intent of the Center for Nutrition Policy and Promotion (CNPP) of the U.S. Department of Agriculture (USDA) to request approval from the Office of Management and Budget (OMB) for information collection processes and instruments used during consumer research that tests nutrition education messages and products for the general public. CNPP conducts consumer research to identify key issues of concern related to the public understanding of key guidance from the Dietary Guidelines for Americans (Dietary Guidelines). These key issues are then translated into consumer messages, tools, and resources.

As background, the Dietary Guidelines is a primary source of dietary health information. Users include Federal agencies, health professionals, policy makers, and nutrition educators. Issued jointly by the USDA and U.S. Department of Health and Human Services (HHS) every five years, the Dietary Guidelines serve as the cornerstone of Federal nutrition policy and form the basis for these agencies' development of consumer nutrition education efforts (nutrition messaging and development of consumer materials). Consumer messages and resources are essential so that the public has resources to help them make healthier eating choices. Information collected from consumer research will further develop consumer nutrition messages and related resources to be communicated through a food guidance symbol and other channels. These may include:

1. Messages and resources that help consumers make healthier food choices grounded in the latest Dietary Guidelines;

2. Amendments to current or subsequent consumer food guidance symbols and their supporting implementation website;

3. Materials relaying consumer messages grounded in the latest Dietary Guidelines, for different population groups (e.g., women who are pregnant or lactating, parents, families, etc.); and

4. New policy, messages, resources, and tools that may be developed as a result of the most current Dietary Guidelines, as well as the most currently available technologies.

Among its major functions, CNPP develops and coordinates nutrition guidance within USDA and investigates techniques for effective nutrition communication. Under Subtitle D of the National Agriculture Research, Extension, and Teaching Policy Act of 1997 (7 U.S.C. 3171-3173, 3175), the Secretary of Agriculture is required to develop and implement a national food and human nutrition research and extension program, including research on the factors affecting food preference and habits; and the development of techniques and equipment to assist consumers in the home or in institutions in selecting food that supplies a nutritionally adequate diet. Pursuant to 7 CFR 2.19(a)(3), the Secretary of Agriculture has delegated authority to the Food, Nutrition, and Consumer Services (FNCS) for, among other things, developing techniques, equipment, and materials to aid the public in selecting food for good nutrition; coordinating nutrition education promotion and professional education projects within the Department; and consulting with Federal and State agencies, the Congress, universities, other public and private organizations, and the general public regarding food consumption and dietary adequacy.

Under Section 301 of Public Law 101-445 (7 U.S.C. 5341, the National Nutrition Monitoring and Related Research Act of 1990, Title III), the Secretaries of USDA and HHS are directed to publish the Dietary Guidelines for Americans jointly at least every five years. The law instructs that this publication shall contain nutritional and dietary information and guidelines for the general public, shall be based on the preponderance of scientific and medical knowledge which is current at the time the report is prepared, and shall be promoted by each Federal agency in carrying out any Federal food, nutrition, or health program. Recent editions of the Dietary Guidelines provide dietary advice for Americans across the lifespan. By providing consumer-friendly nutrition education and communication materials, CNPP and partnering agencies are able to help Americans improve food and beverage choices to promote health. One of the primary ways CNPP helps Americans apply the nutrition guidance in their daily lives is by developing and maintaining interactive, digital tools. CNPP's digital resources and tools provide hands-on learning opportunities that empower Americans to think critically about their food and beverage choices. Maintaining and enhancing CNPP's digital resources and tools are part of a broad Government wide effort to reverse the trend of childhood obesity and build a healthier next generation.

Under Section 3 of Public Law 88-525 (7 U.S.C. 2012, the Food and Nutrition Act of 2008), USDA is required to integrate current dietary guidance into reevaluations of the Thrifty Food Plan at five-year intervals. The Thrifty Food Plan outlines nutrient-dense foods and beverages, their amounts, and associated costs that can be purchased on a limited budget to support a healthy diet through nutritious meals and snacks at home. The Thrifty Food Plan is one of the ways the Dietary Guidelines is used to inform policy, as it serves as the basis for setting maximum Supplemental Nutrition Assistance Program (SNAP) benefit allotments and supports public-facing communications related to the basis for establishing benefit levels.

Conducting research to ensure effective implementation of the Dietary Guidelines through consumer food guidance resources and related tools that are relevant and useful to intended audiences is critical to CNPP's work, and is a major activity included in its 5-year strategic plan in fulfillment of the Government Performance and Results Act of 1993 (31 U.S.C. 9701).

Affected Public: Individual/households.

Estimated Number of Respondents: 57,700.

Estimated Number of Responses per Respondent: 1.006932 (One for focus group screeners, interview screeners, focus groups, journaling, interviews, web-based collections and consent forms. Three for consumer panels).

Estimated Total Annual Responses: 58,100.

Estimated Reporting Time per Response: 12.759 minutes (0.21265 hours). The estimated time of response varies from approximately 5 minutes (.08 hours) to 2 hours, depending on the activity, as shown in the table below.

Estimated Annual Burden: 12,355 hours. See the table below for estimated total annual burden for each type of respondent.

Testing instrument | Estimated number of individual respondents | Number of responses per respondent | Estimated total annual responses per respondent | Estimated time per response in hours | Estimated total annual burden in hours
Focus Group Screeners | 7,500 | 1 | 7,500 | .25 | 1,875
Interview Screeners | 7,500 | 1 | 7,500 | .25 | 1,875
Focus Groups | 500 | 1 | 500 | 2 | 1,000
Journaling | 500 | 1 | 500 | .25 | 125
Interviews | 500 | 1 | 500 | 1 | 500
Consumer Panels | 200 | 3 | 600 | .50 | 300
Web-based Collections | 20,000 | 1 | 20,000 | .25 | 5,000
Consent Form | 21,000 | 1 | 21,000 | .08 | 1,680
Total | 57,700 | 1.006932 | 58,100 | 0.21265 | 12,355

The total estimated annual burden is 57,700 total annual respondents, 12,355 hours, and 58,100 responses. The agency multiplies the annual total estimates to derive the estimated three-year total estimates required for generic request; thus, we are requesting 173,100 total respondents, 37,065 burden hours, and 174,300 total responses for the three-year approval period. Current estimates are based on both the historical number of respondents from past projects as well as estimates for projects to be conducted in the next three years.

James C. Miller,
Administrator, Food and Nutrition Service.

[FR Doc. 2025-16308 Filed 8-25-25; 8:45 am]

BILLING CODE 3410-30-P